DEPARTMENT OF TRANSPORTATION

Federal Railroad Administration

[Docket No. FRA-2017-0002-N-3]

Proposed Agency Information Collection Activities; Comment Request

AGENCY: Federal Railroad Administration (FRA), U.S. Department of Transportation (DOT).

ACTION: Notice and request for comments.

SUMMARY: Under the Paperwork Reduction Act of 1995 (PRA) and its implementing regulations, FRA is seeking to conduct the information collection activities listed below. Before submitting this information collection request (ICR) to the Office of Management and Budget (OMB) for approval, FRA is soliciting public comment on specific aspects of the activity identified below.

DATES: Comments must be received no later than May 30, 2017.

ADDRESSES: Submit written comments on the following information collection activity by mail to either: Mr. Robert Brogan, Information Collection Clearance Officer, Office of Railroad Safety, Regulatory Safety Analysis Division, RRS-21, Federal Railroad Administration, 1200 New Jersey Ave. SE., Mail Stop 17, Washington, DC 20590, or Ms. Kim Toone, Information Collection Clearance Officer, Office of Information Technology, RAD-20, Federal Railroad Administration, 1200 New Jersey Ave. SE., Mail Stop 35, Washington, DC 20590. Commenters requesting FRA to acknowledge receipt of their respective comments must include a self-addressed stamped postcard stating, “Comments on OMB control number 2130—NEW”, and should also include the title of the information collection. Alternatively, comments may be faxed to (202) 493-6216 or (202) 493-6497, or emailed to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Safety Analysis Division, RRS-21, Federal Railroad Administration, 1200 New Jersey Ave. SE., Mail Stop 17, Washington, DC 20590 (telephone: (202) 493-6292) or Ms. Kimberly Toone, Information Collection Clearance Officer, Office of Information Technology, RAD-20, Federal Railroad Administration, 1200 New Jersey Ave. SE., Mail Stop 35, Washington, DC 20590 (telephone: (202) 493-6132). These telephone numbers are not toll-free.

SUPPLEMENTARY INFORMATION: The PRA, 44 U.S.C. 3501-3520, and its implementing regulations, 5 CFR part 1320, require Federal agencies to provide 60-days' notice to the public to allow comment on information collection activities before seeking OMB approval of the activities. 44 U.S.C. 3506(c)(2)(A); 5 CFR 1320.8(d)(1), 1320.10(e)(1), 1320.12(a). Specifically, FRA invites interested parties to comment on the following summary of an information collection activity regarding: (1) Whether the information collection activity is necessary for FRA to properly execute its functions, including whether the activities will have practical utility; (2) the accuracy of FRA's estimate of the burden of the information collection activity, including the validity of the methodology and assumptions used to determine the estimate; (3) how FRA can enhance the quality, utility, and clarity of the information being collected; and (4) how FRA can minimize the burden of the information collection activity on the public by automated, electronic, mechanical, or other technological collection techniques and other forms of information technology (e.g., permitting electronic submission of responses). See 44 U.S.C. 3506(c)(2)(A); 5 CFR 1320.8(d)(1).

FRA believes soliciting public comment will promote its efforts to reduce the administrative and paperwork burdens associated with the collection of information. In summary, FRA reasons that comments received will advance three objectives: (1) Reduce reporting burdens; (2) ensure it organizes information collection requirements in a “user-friendly” format to improve the use of such information; and (3) accurately assess the resources expended to retrieve and produce information requested. See 44 U.S.C. 3501.

Below is a brief summary of the proposed ICR that FRA will submit for OMB clearance as required under the PRA:

Title: Workforce Development (WFD) Survey.

OMB Control Number: 2130—NEW.

Abstract: FRA has statutory responsibility to ensure the safety of railroad operations under 49 U.S.C. 20103. To conduct safe railroad operations, the workforce must have the requisite skills to operate equipment and technologies. Therefore, it is FRA's responsibility to promote workforce development policy and standards to ensure the workforce has the necessary skills and talent to conduct safe railroad operations. Due to an increasingly dynamic and maturing workforce combined with changing skills' requirements new technologies impose, there is an increasing risk of not having the necessary talent pools to fill critical railroad operational positions.

In 2011, FRA published the Railroad Industry Modal Profile: An Outline of the Railroad Industry Workforce Trends, Challenges, and Opportunities (Railroad Industry Modal Profile), which provided a comprehensive overview of the railroad industry workforce as of December 31, 2008. This document is available to the public through FRA's Web site at https://www.fra.dot.gov/eLib/Details/L01294. FRA published the Railroad Industry Modal Profile in response to the DOT National Transportation Workforce Development Initiative that required each DOT Operating Administration (OA) to produce an analysis of its industry workforce. See https://www.rita.dot.gov/ntwd for information on the initiative.

The prevailing workforce concerns during the early stages of the DOT National Transportation Workforce Development Initiative were the large number of retirement-eligible employees in transportation-related fields and the national shortage of science, technology, engineering, and math graduates. Since the railroad industry did very little hiring in the late 1980s and through most of the 1990s, the retirement-eligible population became quitelarge—even more than most other industries and transportation modes (which were grappling with similar retirement population concerns).

These industry hiring practices create risk in maintaining a viable workforce, and, to take effective and efficient action to minimize these risks, FRA requires railroads to submit trustworthy information on current Work Force Development strategies and challenges. Initial data FRA collected for the Railroad Industry Modal Profile established a baseline understanding of the risks and status. FRA proposes this survey to validate and further develop its understanding of the risks. With this submission, FRA is requesting permission to acquire the necessary information on the railroad industry workforce.

Form Number(s): FRA 240.

Affected Public: Class I freight and passenger railroads, short line and regional railroads, labor unions, major associations, academia, and specialty experts.

Respondent Universe: 91.

Frequency of Submission: One-time.

Reporting Burden:

Stakeholder segment | Number invited to survey | Burden hours @ ⅓ hour per survey
Class I Passenger | 5 | 1.65
Class I Freight | 10 | 3.3
Short Line and Regional | 50 | 16.5
Labor Unions | 7 | 2.3
Associations | 10 | 3.3
Academia | 9 | 3
Total | 91 | 30.05

Total Estimated Annual Responses: 91.

Total Estimated Annual Burden: 30.05 hours.

Type of Request: Approval of a new Information Collection.

Under 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Sarah L. Inderbitzin,
Acting Chief Counsel.

[FR Doc. 2017-06046 Filed 3-27-17; 8:45 am]

BILLING CODE 4910-06-P